NUCLEAR REGULATORY COMMISSION

[Docket No. 70-3098-MLA; ASLBP No. 07-856-02-MLA-BD01]

Shaw Areva Mox Services (Mixed Oxide Fuel Fabrication Facility); Notice of Reconstitution

Pursuant to 10 CFR 2.321, the Atomic Safety and Licensing Board in the above captioned Shaw Areva Mox Services proceeding is hereby reconstituted by appointing Administrative Judge Lawrence G. McDade in place of Administrative Judge William M. Murphy, whose circumstances have rendered him unavailable to participate in this proceeding (10 CFR 2.313(c)).

In accordance with 10 CFR 2.302, henceforth all correspondence, documents, and other material relating to any matter in this proceeding over which this Licensing Board has jurisdiction should be served on Administrative Judge McDade as follows: Administrative Judge Lawrence G. McDade, Atomic Safety and Licensing Board Panel, U.S. Nuclear Regulatory Commission, Washington, DC 20555-0001.

Issued at Rockville, Maryland, this 18th day of July 2007.
E. Roy Hawkens,
Chief Administrative Judge, Atomic Safety and Licensing Board Panel.

[FR Doc. E7-14255 Filed 7-23-07; 8:45 am]

BILLING CODE 7590-01-P